DEPARTMENT OF STATE

[Public Notice 7133]

State-68, Office of the Coordinator for Reconstruction and Stabilization Records

Summary: Notice is hereby given that the Department of State proposes to amend an existing system of records, Office of the Coordinator for Reconstruction and Stabilization Records, State-68, pursuant to the provisions of the Privacy Act of 1974, as amended (5 U.S.C. 552a) and Office of Management and Budget Circular No. A-130, Appendix I. The Department's report was filed with the Office of Management and Budget on July 27, 2010.

It is proposed that the current system will retain the name “Office of the Coordinator for Reconstruction and Stabilization Records.” It is also proposed that the amended system description will include revisions/additions to: Categories of records; Purpose; Routine uses; and Storage, Safeguards and Retrievability as well as other administrative updates. Further, the following section has been added to the system of records, Office of the Coordinator for Reconstruction and Stabilization Records, State-68 to ensure Privacy Act of 1974 compliance: Contesting Record Procedures.

Any persons interested in commenting on the amended system of records may do so by submitting comments in writing to Margaret P. Grafeld, Director, Office of Information Programs and Services, A/GIS/IPS, Department of State, SA-2, 515 22nd Street, Washington, DC 20522-8001.

This amended system of records will be effective 40 days from the date of publication, unless we receive comments that will result in a contrary determination.

The amended system description, “Office of the Coordinator for Reconstruction and Stabilization Records, State-68,” will read as set forth below.

Dated: July 27, 2010.
Steven J. Rodriguez,
Deputy Assistant Secretary of Operations, Bureau of Administration, U.S. Department of State.

STATE-68

SECURITY CLASSIFICATION:

Unclassified.

SYSTEM NAME:

Office of the Coordinator for Reconstruction and Stabilization Records.

SYSTEM LOCATION:

Department of State, SA-3, 2121 Virginia Avenue, NW., Washington, DC 20520.

CATEGORIES OF INDIVIDUALS COVERED BY THE SYSTEM:

Individuals who have been or will be involved in international reconstruction and stabilization activities and individuals who offer to participate in potential future overseas reconstruction and stabilization activities in a foreign deployment or in a management function based in Washington, DC, and/or in domestic training and civilian-military exercises.

CATEGORIES OF RECORDS IN THE SYSTEM:

Name; Social Security number; date of birth; citizenship; contact information such as mailing address, e-mail and/or phone number; passport number, dates of expiration, places of issuance; driver's license number, dates of expiration and state where issued; individuals' height and weight; language skills; military service, if any; prior related experience; security clearance status; medical clearance; personal gear/clothing size; emergency contact information and dependent information.

AUTHORITY FOR MAINTENANCE OF THE SYSTEM:

Public Law 108-447, Div B, Title IV, Sec. 408, 118 Stat. 2904 (Consolidated Appropriations Act, 2005).

PURPOSE:

The information in this system will be used to assist the Office of the Coordinator for Reconstruction and Stabilization to carry out its mandate to lead, coordinate, and institutionalize international reconstruction and stabilization activities of the U.S. Government.

The database shall be compiled and used to categorize and identify individuals who volunteer to participate in Civilian Response Corps missions and other international reconstruction and stabilization activities.

ROUTINE USES OF RECORDS MAINTAINED IN THE SYSTEM, INCLUDING CATEGORIES OF USERS AND PURPOSES OF SUCH USES:

The records in this system may be disclosed to:

(1) Any and all U.S. Government agencies involved in reconstruction and stabilization operations in order to coordinate U.S. efforts in international reconstruction and stabilization; to determine which members are available and best qualified for particular missions; and to manage and select individuals who have been hired or agreed to deploy oversees in support of reconstruction and stabilization efforts of the U.S. Government.

(2) The United Nations, North Atlantic Treaty Organization (NATO) or similar international organizations for the purpose of coordinating personnel engaged in specific reconstruction and stabilization activities.

(3) U.S. and NATO military installations for the purpose of sharing information necessary for security checks and to obtain access to military facilities, including manifesting on military aircraft.

(4) State governments, foreign governments and international organizations where employees are being considered for detail, assignment or secondment.

(5) Officials of foreign governments and other U.S. Government agencies for clearance before a Federal employee is assigned to that country as well as for the procurement of necessary services for American personnel assigned overseas, such as permits of free entry and identity cards;

(6) Attorneys, union representatives or other persons designated in writing by employees who are the subject of the information to represent them in complaints, grievances, or other litigation.

The Department of State periodically publishes in the Federal Register its standard routine uses that apply to all of its Privacy Act systems of records. These notices appear in the form of a Prefatory Statement. These standard routine uses apply to the Office of the Coordinator for Reconstruction and Stabilization Records, State-68.

POLICIES AND PRACTICES FOR STORING, RETRIEVING, ACCESSING, RETAINING AND DISPOSING OF RECORDS IN THE SYSTEM:

STORAGE:

Electronic media.

RETRIEVABILITY:

Individual's name or system generated identification number.

SAFEGUARDS:

The Department of State will maintain responsibility for keeping the records accurate and updated; however, a limited number of U.S. Agency for International Development (USAID) personnel will be allowed to access the CRC database in order to run the Civilian Deployment Center. These USAID personnel will use a State Department-approved remote access program in order to enter the State system. All Department of State and USAID employees and contractors with authorized access have undergone a thorough background security investigation. All users must take mandatory annual cyber security awareness training including the procedures for handling Sensitive But Unclassified and personally identifiable information. Before being granted access to the Office of the Coordinator for Reconstruction and Stabilization Records, a user must first be granted access to Department of State computer systems.

Remote access to the Department of State network from non-Department owned systems is only authorized through a Department-approved remote access program. Remote access to the network is configured with two factor authentication and time-out functions.

Access to the Department and its annexes is controlled by security guards and admission is limited to those individuals possessing a valid identification card or individuals under proper escort. Servers are stored in Department of State secured facilities in cipher locked server rooms. Access to electronic files is password-protected and under the direct supervision of the system manager. The system manager has the capability of printing audit trails of access from the computer media, thereby permitting regular and ad hoc monitoring of computer usage. When it is determined that a user no longer needs access, the user account is disabled.

RETENTION AND DISPOSAL:

These records will be maintained with published record disposition schedules of the Department of State as approved by the National Archives and Records Administration (NARA). More specific information may be obtained by writing to the Director, Office of Information Programs and Services, A/GIS/IPS, SA-2, Department of State, 515 22nd Street, NW., Washington, DC 20522-8100.

SYSTEM MANAGER AND ADDRESS:

Office of the Coordinator for Reconstruction and Stabilization, Department of State, SA-3, 2121 Virginia Avenue, NW., Washington, DC 20520.

NOTIFICATION PROCEDURE:

Individuals who have reason to believe that the Office of the Coordinator for Reconstruction and Stabilization might have records pertaining to them should write to the Director, Office of Information Programs and Services, A/GIS/IPS, SA-2, Department of State, 515 22nd Street, NW., Washington, DC 20522-8100. The individual must specify that he or she wishes the records of the Office of the Coordinator for Reconstruction and Stabilization to be checked. At a minimum, the individual should include: Name; date and place of birth; current mailing address and zip code; signature; a brief description of the circumstances that caused the creation of the record (including the city and/or country and the approximate dates) which gives the individual cause to believe that the Office of the Coordinator for Reconstruction and Stabilization has records pertaining to them.

RECORD ACCESS AND AMENDMENT PROCEDURES:

Individuals who wish to gain access to, or amend records pertaining to, themselves should write to the Director, Office of Information Programs and Services (address above).

CONTESTING RECORD PROCEDURES:

See above.

RECORD SOURCE CATEGORIES:

These records contain information that is obtained from the individual who is the subject of the records.

SYSTEMS EXEMPTED FROM CERTAIN PROVISIONS OF THE ACT:

None.

[FR Doc. 2010-21432 Filed 8-26-10; 8:45 am]

BILLING CODE 4710-24-P